COMMITTEE FOR PURCHASE FROM PEOPLE WHO ARE BLIND OR SEVERELY DISABLED

Procurement List Additions and Deletions

AGENCY: Committee for Purchase From People Who Are Blind or Severely Disabled.

ACTION: Additions to and Deletions from the Procurement List.

SUMMARY: This action adds to the Procurement List services to be furnished by nonprofit agencies employing persons who are blind or have other severe disabilities, and deletes from the Procurement List products and services previously furnished by such agencies.

DATES: Effective Date: January 7, 2008.

ADDRESSES: Committee for Purchase From People Who Are Blind or Severely Disabled, Jefferson Plaza 2, Suite 10800, 1421 Jefferson Davis Highway, Arlington, Virginia 22202-3259.

FOR FURTHER INFORMATION CONTACT: Kimberly M. Zeich, Telephone: (703) 603-7740, Fax: (703) 603-0655, or e-mail CMTEFedReg@jwod.gov.

SUPPLEMENTARY INFORMATION:

Additions

On October 12, 2007, the Committee for Purchase From People Who Are Blind or Severely Disabled published notice (72 FR 58051) of proposed additions to the Procurement List.

After consideration of the material presented to it concerning capability of qualified nonprofit agencies to provide the services and impact of the additions on the current or most recent contractors, the Committee has determined that the services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List.

End of Certification

Accordingly, the following services are added to the Procurement List:

Services

Service Type/Location: Janitorial Services, Ventura Veterans Center, 790 East Santa Clara Street, Ventura, CA.

NPA: Association for Retarded Citizens—Ventura County, Inc., Ventura, CA.

Contracting Activity: Department of Veterans Affairs, Long Beach, CA.

Service Type/Location: Medical Transcription, Naval Medical Center (NMCSD), 34800 Bob Wilson Drive, San Diego, CA.

NPA: Lighthouse for the Blind of Houston, Houston, TX.

Contracting Activity: Fleet and Industrial Supply Center, San Diego, CA.

Deletions

On October 12, 2007, the Committee for Purchase From People Who Are Blind or Severely Disabled published notice (72 FR 58051) of proposed deletions to the Procurement List.

After consideration of the relevant matter presented, the Committee has determined that the products and services listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the products and services to the Government.

3. There are no known regulatory alternatives which would accomplish the objectives of the Javits-Wagner-O'Day Act (41 U.S.C. 46-48c) in connection with the products and services deleted from the Procurement List.

End of Certification

Accordingly, the following products and services are deleted from the Procurement List:

Products

Meal Kits

NSN: 8970-01-E59-0242B.

NSN: 8970-01-E59-0243B.

NPA: UNKNOWN.

Contracting Activity: U.S. Property and Fiscal Officer for Louisiana, New Orleans, LA.

Meal Kits

NSN: 8970-00-NSH-0012A.

NSN: 8970-00-NSH-0013A.

NSN: 8970-01-E59-0239B.

NSN: 8970-01-E59-0240B.

NSN: 8970-01-E59-0241B.

NSN: 8970-01-E59-0244B.

NSN: 8970-01-E59-0245A.

NPA: UNKNOWN.

Contracting Activity: U.S. Property and Fiscal Officer for Louisiana, New Orleans, LA.

Contracting Activity: National Guard Bureau, Oklahoma, OK.

Contracting Activity: National Guard Bureau, Topeka, KS.

Services

Service Type/Location: Custodial Services, Department of Homeland Security, Border Patrol—Curlew Station, Curlew, WA.

NPA: Ferry County Community Services, Republic, WA.

Contracting Activity: U.S. Bureau of Customs & Border Protection, Spokane, WA.

Service Type/Location: Janitorial/Custodial, Naval & Marine Corps Reserve Center, Billings, MT.

NPA: Community Option Resource Enterprises, Inc., Billings, MT.

Contracting Activity: Naval Facilities Engineering Command, Everett, WA.

Service Type/Location: Janitorial/Custodial, Wallace Ranger District of the Panhandle National Fores, Coeur d'Alene, ID.

NPA: TESH, Inc., Couer d'Alene, ID,

Contracting Activity: Panhandle National Forest, Coeur d'Alene, ID.

Service Type/Location: Janitorial/Custodial, U.S. Army Reserve Facility, Salem, OR.

NPA: Garten Services, Inc., Salem, OR.

Contracting Activity: Department of the Army, Fort Lewis, WA.

Service Type/Location: Janitorial/Custodial, U.S. Federal Building, Courthouse and Post Office, Moscow, ID.

NPA: UNKNOWN.

Contracting Activity: General Services Administration, Auburn, WA.

Service Type/Location: Janitorial/Grounds Maintenance, Federal Courthouse, Pocatello, ID.

NPA: New Day Products, Inc., Pocatello, ID.

Contracting Activity: General Services Administration, Public Buildings Service, Auburn, WA.

Service Type/Location: Janitorial/Grounds Maintenance, Pactola Harney Ranger District Recreation Areas, Black Hills National Forest, Custer, SD.

NPA: Southern Hills Developmental Services, Inc., Hot Springs, SD.

Contracting Activity: U.S. Department of Agriculture, Custer, SD.

Service Type/Location: Tub & Burlap Washing, Rogue River National Forest, J. Herbert Stone Nursery, Central Point, OR.

NPA: Living Opportunities, Inc., Medford, OR.

Contracting Activity: U.S. Department of Agriculture, Forest Service, Medford, OR.

Kimberly M. Zeich,
Director, Program Operations.

[FR Doc. E7-23791 Filed 12-6-07; 8:45 am]

BILLING CODE 6353-01-P